DEPARTMENT OF HOMELAND SECURITY

Federal Emergency Management Agency

44 CFR Part 65

[Docket ID FEMA-2008-0020; Internal Agency Docket No. FEMA-B-1033]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and Case No. | Date and name of newspaper where notice was published | Chief executive officer of community | Effective date of modification | Community No.
Arizona: Apache | Town of Eager (08-09-0712P) | October 24, 2008; October 31, 2008; White Mountain Independent | The Honorable Bill Greenwood, Town Manager, Town of Eager, P.O. Box 1300, Eager, AZ 85925 | March 2, 2009 | 040103
Arizona: Maricopa | Town of Cave Creek (08-09-1202P) | December 18, 2008; December 25, 2008; Arizona Business Gazette | The Honorable Vincent Francia, Mayor, Town of Cave Creek, 5140 East New River Road, Cave Creek, AZ 85331 | April 24, 2009 | 040129
Arizona: Maricopa | Unincorporated areas of Maricopa County (08-09-1202P) | December 18, 2008; December 25, 2008; Arizona Business Gazette | The Honorable Andrew W. Kunasek, Chairman, Maricopa County, Board of Supervisors, 301 West Jefferson Street, 10th Floor, Phoenix, AZ 85003 | April 24, 2009 | 040037
Arizona: Maricopa | City of Phoenix (08-09-1412P) | December 18, 2008; December 25, 2008; Arizona Business Gazette | The Honorable Phil Gordon, Mayor, City of Phoenix, 200 West Washington Street, 11th Floor, Phoenix, AZ 85003 | November 28, 2008 | 040051
Colorado: Douglas | Unincorporated areas of Douglas County (07-08-0979P) | December 4, 2008; December 11, 2008; Douglas County News-Press | The Honorable Melanie A. Worley, Chairperson, Douglas County, Board of County Commissioners, 100 Third Street, Castle Rock, CO 80104 | April 10, 2009 | 080049
Colorado: El Paso | Town of Palmer Lake (07-08-0979P) | December 3, 2008; December 10, 2008; The Tribune | The Honorable John Cressman, Mayor, Town of Palmer Lake, P.O. Box 208, Palmer Lake, CO 80133 | April 10, 2009 | 080065
Delaware: New Castle | Unincorporated areas of New Castle County (08-03-1537P) | December 18, 2008; December 25, 2008; The News Journal | The Honorable Christopher Coons, New Castle County Executive, 87 Reads Way, New Castle, DE 19720 | April 17, 2009 | 105085
Florida: Duval | City of Jacksonville Beach (08-04-6323P) | December 26, 2008; January 2, 2009; The Beaches Leader | The Honorable Fland Sharp, Mayor, City of Jacksonville Beach, 11 North Third Street, Jacksonville Beach, FL 32250 | December 22, 2008 | 120078
Georgia: Barrow | Unincorporated areas of Barrow County (08-04-5370P) | December 10, 2008; December 17, 2008; The Barrow County News | Mr. Douglas H. Garrison, Chairman, Barrow County, Board of Commissioners 233 East Broad Street, Winder, GA 30680 | April 16, 2009 | 130497
Georgia: Hall | Unincorporated areas of Hall County (08-04-4322P) | December 11, 2008; December 18, 2008; Gainesville Times | Mr. Tom Oliver, Chairman, Hall County, Board of Commissioners, P.O. Box 1435, Gainesville, GA 30503 | April 17, 2009 | 130466
Georgia: Jackson | Unincorporated areas of Jackson County (08-04-4322P) | December 10, 2008; December 17, 2008; The Jackson Herald | Ms. Pat Bell, Chairperson, Jackson County Board of Commissioners, 67 Athens Street, Jefferson, GA 30549 | April 17, 2009 | 130345
Georgia: Jackson | Unincorporated areas of Jackson County (08-04-5370P) | December 10, 2008; December 17, 2008; The Jackson Herald | Ms. Pat Bell, Chairman, Jackson County Board of Commissioners, 67 Athens Street, Jefferson, GA 30549 | April 16, 2009 | 130345
Idaho: Ada | Unincorporated areas of Ada County (08-10-0528P) | December 22, 2008; December 29, 2008; Idaho Statesman | The Honorable Fred Tilman, Chairman, Ada County Board of Commissioners, 200 West Front Street, Boise, ID 83702 | April 28, 2009 | 160001
Idaho: Ada | City of Eagle (08-10-0528P) | December 22, 2008; December 29, 2008; Idaho Statesman | The Honorable Phil Brandy, Mayor, City of Eagle, P.O. Box 1520, Eagle, ID 83616 | April 28, 2009 | 160003
Ohio: Licking | City of Newark (08-05-4680P) | December 8, 2008; December 15, 2008; The Newark Advocate | The Honorable Bob Diebold, Mayor, City of Newark, 40 West Main Street, Newark, OH 43055 | April 14, 2009 | 390335
Pennsylvania: Chester | Township of Birmingham (08-03-1499P) | December 30, 2008; January 6, 2009; The Daily Local News | The Honorable John L. Conklin, Chairman, Birmingham Township Board of Supervisors, 1040 West Street Road, West Chester, PA 19382-8012 | May 6, 2009 | 421474
Texas: Collin | Unincorporated areas of Collin County (08-06-1493P) | December 5, 2008; December 12, 2008; McKinney Courier-Gazette | The Honorable Keith Self, Collin County Judge, 210 South McDonald Street, Suite 626, McKinney, TX 75069 | April 13, 2009 | 480130
Texas: Collin | City of Lowry Crossing (08-06-1493P) | December 5, 2008; December 12, 2008; McKinney Courier-Gazette | The Honorable Gary Piatt, Mayor, City of Lowry Crossings, 1405 South Bridge Farmer Rd, McKinney, TX 75069 | April 13, 2009 | 481631
Texas: Collin | City of McKinney (08-06-1493P) | December 5, 2008; December 12, 2008; McKinney Courier-Gazette | The Honorable Bill Whitfield, Mayor, City of McKinney, 222 North Tennessee, McKinney, TX 75069 | April 13, 2009 | 480135
Texas: Collin | City of McKinney (08-06-1994P) | December 8, 2008; December 15, 2008; McKinney Courier-Gazette | The Honorable Bill Whitfield, Mayor, City of McKinney, 222 North Tennessee, McKinney, TX 75069 | April 14, 2009 | 480135

(Catalog of Federal Domestic Assistance No. 97.022, “Flood Insurance.”)

Dated: January 22, 2009.
Michael K. Buckley,
Acting Assistant Administrator, Mitigation Directorate, Department of Homeland Security, Federal Emergency Management Agency.

[FR Doc. E9-6672 Filed 3-24-09; 8:45 am]

BILLING CODE 9110-12-P